DEPARTMENT OF THE INTERIOR

Bureau of Indian Affairs

[167 A2100DD/AAKC001030/A0A501010.999900]

Proclaiming Certain Lands as Reservation for the Shakopee Mdewakanton Sioux Community of Minnesota

AGENCY: Bureau of Indian Affairs, Interior.

ACTION: Notice of reservation proclamation.

SUMMARY: This notice informs the public that the Assistant Secretary—Indian Affairs proclaimed approximately 24.69 acres, more or less, an addition to the reservation of the Shakopee Mdewakanton Sioux Community of Minnesota on March 11, 2016.

FOR FURTHER INFORMATION CONTACT: Ms. Sharlene Round Face, Bureau of Indian Affairs, Division of Real Estate Services, MS-4642-MIB, 1849 C Street NW., Washington, DC 20240, at (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 467), for the land described below. The land was proclaimed to be Shakopee Mdewakanton Sioux Community Reservation for the exclusive use of Indians on that reservation who are entitled to reside at the reservation by enrollment or Tribal membership.

Reservation of the Shakopee Mdewakanton Sioux Community, Township of Prior Lake, County of Scott and State of Minnesota.

Wozupi

Legal description containing 24.69 acres, more or less

That part of the Northwest Quarter of the Northwest Quarter of Section 28, Township 115 North, Range 22 West, 5th Principal Meridian, Scott County, Minnesota, lying west of the following described line:

Beginning at a point on the north line of said Northwest Quarter of the Northwest Quarter distant 404.50 feet east of the northwest corner thereof; thence southerly to a point on the south line of said Northwest Quarter of the Northwest Quarter distant 411.15 feet east of the southwest corner of said Northwest Quarter of the Northwest Quarter and there terminating, containing 12.31 acres, more or less.

AND

That part of the Northwest Quarter of the Northwest Quarter (NW. ¼ of NW. ¼) of Section 28, Township 115 North, Range 22 West of the 5th Principal Meridian, Scott County, Minnesota, lying West of the East 500.00 feet of said Northwest Quarter of the Northwest Quarter and East of the following described line:

Beginning at a point on the North line of said Northwest Quarter of the Northwest Quarter distant 404.50 feet East of the Northwest corner thereof; thence Southerly to a point on the South line of said Northwest Quarter of the Northwest Quarter distant 411.15 feet East of the Southwest corner of said Northwest Quarter of the Northwest Quarter and there terminating, according to the United States Government Survey thereof and situate in Scott County, Minnesota, containing 12.38 acres, more or less.

This proclamation does not affect title to the land described above, nor does it affect any valid existing easements for public roads and highways, for public utilities and for railroads or pipelines and any other rights-of-way or reservations of record.

Dated: March 11, 2016.
Lawrence S. Roberts,
Acting Assistant Secretary—Indian Affairs.

[FR Doc. 2016-06043 Filed 3-16-16; 8:45 am]

BILLING CODE 4337-15-P